NUCLEAR REGULATORY COMMISSION

Proposed Generic Communication; Control Room Envelope Habitability

AGENCY: Nuclear Regulatory Commission.

ACTION: Extension of public comment period.

SUMMARY: On May 9, 2002 (67 FR 31385), the U.S. Nuclear Regulatory Commission (NRC) published for public comment a proposed generic letter concerning control room envelope habitability determination. The 90-day public comment period was to have expired on August 7, 2002. The NRC received a request to extend the comment period by an additional 60 days. After consideration of the request, the NRC has decided to extend the public comment period for an additional 60 days.

DATES: The public comment period has been extended and now expires on September 6, 2002. Comments received after this date will be considered if it is practical to do so, but assurance of consideration cannot be given except for comments received on or before this date.

ADDRESSES: Submit written comments to Chief, Rules and Directives Branch, Division of Administrative Services, U.S. Nuclear Regulatory Commission, Mail Stop T6-D59, Washington, DC 20555-0001. Written comments may also be delivered to 11545 Rockville Pike, Rockville, Maryland, between 7:45 a.m. and 4:15 p.m., Federal workdays.

Copies of written comments received and documents related to this action may be examined at the NRC Public Document Room, located at One White Flint North, Public File Area O1-F21, 11555 Rockville Pike, Rockville, Maryland. Documents are also available electronically at NRC's Public Electronic Reading Room on the Internet at <http://www.nrc.gov/reading-rm.html>. From this site, the public can gain entry into NRC's Agencywide Documents Access and Management System (ADAMS), which provides text and image files of NRC's public documents. The ADAMS Accession No. for the document containing the proposed generic letter is ML021230323. You may send comments electronically from this site by clicking on comment form. For more information, contact the NRC's Public Document Room reference staff by telephone at 1-800-397-4209 or 301-415-4737, or by e-mail to <pdr@nrc.gov>.

FOR FURTHER INFORMATION CONTACT: W. Mark Blumberg, 301-415-1083, or by e-mail to <wmb1@nrc.gov>.

Dated at Rockville, Maryland, this 8th day of July 2002.
For the Nuclear Regulatory Commission.
William D. Beckner,
Program Director, Operating Reactor Improvements Program, Division of Regulatory Improvement Programs, Office of Nuclear Reactor Regulation.

[FR Doc. 02-17647 Filed 7-12-02; 8:45 am]

BILLING CODE 7590-01-P